DEPARTMENT OF AGRICULTURE

Forest Service

Notice of Meetings; Black Hills National Forest Advisory Board and Recreation Resource Advisory Committee (Federal Lands Recreation Enhancement Act, Title VIII, Pub. L. 108-447)

AGENCY: Black Hills National Forest, Rocky Mountain Region.

ACTION: Notice of meetings.

SUMMARY: The Black Hills National Forest Advisory Board (Board), acting in its capacity as the Black Hills National Forest Recreation Resource Advisory Committee (RRAC), will meet in Rapid City, SD. The purposes of the meetings are to consider recommending a business plan and annual, weekly, and commercial vehicle, special recreation permit fees. These fees would include annual permits purchased by the public to use the Black Hills National Forest's designated, motorized, off-highway vehicle trail system. The fees would be established pursuant to Public Law No: 108-447 (H.R. 48 118), September 8, 2004, Consolidated Appropriations Act, 2005, Title VIII Federal Lands Recreation Enhancement Act, Section 803 Recreation Fee Authority, (h) Special Recreation Permit Fee.

DATES: The Board, also meeting as the RRAC, will meet on November 19, 2008, and again on January 7, 2009, from 1 p.m. to 5 p.m. Board/RRAC meetings will only be held if a quorum of members is present.

ADDRESSES: The Advisory Board/RRAC meetings will be at locations to be determined and announced in the news media and on the Black Hills National Forest Web page at http://www.fs.fed.us/r2/blackhills. Send written comments to Craig Bobzien, Designated Federal Official, 1019 N. 5th St., Custer, SD, 57730 or e-mail twillems@fs.fed.us.

FOR FURTHER INFORMATION CONTACT: Tom Willems, Black Hills National Forest Travel Planner at 605-673-9217 or twillems@fs.fed.us.

SUPPLEMENTARY INFORMATION: A travel planning subcommittee of the Board will make a presentation to the Board/RRAC on November 19, summarizing public comment on the business plan and proposed fees and explaining to the Board/RRAC the content of the business plan, the proposed special recreation permit fees, and other matters relating to the proposal, including how fees would apply to obtaining formal law enforcement officers to enforce rules on the designated trail system. The Board/RRAC will meet November 19 to listen to the subcommittee's presentation, then to discuss the business plan and the proposed special recreation permit fees, and to take additional public comment if time allows, at the discretion of the Chair, and for 15 minutes at the end of the meeting in any event. The Chair may ask for comments from the public at any time during the meetings. People wishing to speak at the meetings are asked to sign in at the door with a name and contact information. Public comments will be taken based first-come, first-served at the discretion of the Chair. The public may provide written comments to the Committee staff at any time from now until January 2, 2009. Check for the status of the meetings, final agendas, the proposed business plan and the special recreation permit fee proposal at: http://www.fs.fed.us/r2/blackhills. The National Forest Advisory Board sitting as the Black Hills National Forest Recreation Resource Advisory Committee is authorized by the Federal Land Recreation Enhancement Act, which was signed into law by President Bush in December 2004.

Dated: October 27, 2008.
Craig Bobzien,
Designated Federal Officer, Black Hills National Forest Advisory Board and Recreation Resource Advisory Committee.

[FR Doc. E8-26033 Filed 10-30-08; 8:45 am]

BILLING CODE 3410-11-M